DEPARTMENT OF THE INTERIOR

Fish and Wildlife Service

Receipt of Application for an Enhancement of Survival Permit Associated With the Reintroduction of Black-Footed Ferrets on the Northern Cheyenne Tribal Lands in Montana

AGENCY: Fish and Wildlife Service, Interior.

ACTION: Notice of availability and receipt of application.

SUMMARY: The U.S. Fish and Wildlife Service (Service) announces the receipt of an application for the reintroduction of black-footed ferrets on Northern Cheyenne Tribal lands in Montana pursuant to section 10(a)(1)(A) of the Endangered Species Act of 1973, as amended (Act). The Service requests information, views, and opinions from the public via this notice.

DATES: Written comments on this request for a permit must be received by January 7, 2008.

ADDRESSES: Written data or comments should be submitted to the Assistant Regional Director, Fisheries—Ecological Services, U.S. Fish and Wildlife Service, P.O. Box 25486, Denver Federal Center, Denver, Colorado 80225-0486; facsimile 303-236-0027. Documents and other information submitted with this application are available for review, subject to the requirements of the Privacy Act [5 U.S.C. 552A] and Freedom of Information Act [5 U.S.C. 552], by any party who submits a request for a copy of such documents within 30 days of the date of publication of this notice to Kris Olsen, by mail or by telephone at 303-236-4256. All comments received from individuals become part of the official public record.

FOR FURTHER INFORMATION CONTACT: Kris Olsen, Regional Permit Coordinator (ADDRESSES above), telephone 303-236-4256, or Pete Gober, Project Leader, South Dakota Ecological Services Office, 420 South Garfield Avenue, Suite 400, Pierre, South Dakota 57501, telephone 605-224-8693, extension 24.

SUPPLEMENTARY INFORMATION: The following applicant has requested issuance of an enhancement of survival permit to conduct certain activities with endangered species pursuant to section 10(a)(1)(A) of the Act.

Applicant—Northern Cheyenne Natural Resource Department, Lame Deer, Montana, TE-167158.

The applicant requests a permit to take black-footed ferret in conjunction with reintroduction and recovery activities throughout the Northern Cheyenne Reservation portion of the species' range for the purpose of enhancing its survival and recovery. The black-footed ferret is one of the rarest mammals in North America. Formerly co-occurring across the ranges of all prairie dog species, its distribution has been greatly reduced due to disease (plague), poisoning of prairie dogs, and human-related habitat alteration. The only known current populations are those in captivity and those started through reintroduction of captive-bred individuals. Protection of this species and enhancement of its habitat on Tribal land will benefit recovery efforts.

The primary objectives of the proposed action are to—(a) restore the native prairie ecosystem on the Northern Cheyenne, consistent with Northern Cheyenne and Native American traditions and values; (b) establish a viable, self-sustaining ferret population in South-central Montana consistent with the Conservation Plan for Black-tailed and White-tailed Prairie Dogs in Montana and the Black-footed Ferret Recovery Plan (U.S. Fish and Wildlife Service 1988); and (c) further test the effectiveness of methods to address the threat of Sylvatic plague (Yersinia pestis) on black-footed ferret survival in the wild by using vaccination and flea control methods. We have made the preliminary determination that the proposed activities will enhance survival and recovery of the black-footed ferret. This notice is provided pursuant to section 10 of the Act.

We will evaluate the permit application and the comments submitted therein to determine whether the application meets the requirements of section 10(a) of the Act. If it is determined that those requirements are met, a permit will be issued for the reintroduction of the black-footed ferret. The final permit decision will be made no sooner than 30 days after the date of this notice.

Authority: The authority of this action is the Endangered Species Act of 1973, as amended (16 U.S.C. 1531 et seq.) and the National Environmental Policy Act of 1969, as amended (42 U.S.C. 4321 et seq.).

Dated: November 1, 2007.
Emily Jo Williams,
Acting Regional Director, Denver, Colorado.

[FR Doc. E7-23642 Filed 12-5-07; 8:45 am]

BILLING CODE 4310-55-P